DEPARTMENT OF THE INTERIOR

Bureau of Land Management

[ES-020-1320-EL]

Notice of Availability of the Record of Decision for the Gray Mountain Coal Lease Land Use Analysis and Final Environmental Impact Statement, Coal Lease By Application KYES-51002, KT

AGENCY: Bureau of Land Management, Interior.

ACTION: Notice of availability.

SUMMARY: In accordance with the National Environmental Policy Act of 1969, the Bureau of Land Management (BLM) announces the availability of the Record of Decision (ROD) for the Gray Mountain Final Environmental Impact Statement (FEIS), Coal Lease By Application (LBA) KYES-51002.

ADDRESSES: Copies of the document are available for public inspection at the following BLM office locations: Bureau of Land Management-Eastern States, 7450 Boston Boulevard, Springfield, Virginia 22153. Bureau of Land Management-Eastern States, Jackson Field Office, 411 Briarwood Drive, Suite 404, Jackson, Mississippi 39206.

FOR FURTHER INFORMATION CONTACT: Mr. Steve Gobat, Deputy State Director for Natural Resources, BLM-Eastern States at (703) 440-1727; or Mr. Stuart Grange, Mining Engineer, Jackson Field Office at (601) 977-5400.

SUPPLEMENTARY INFORMATION: The BLM is issuing a ROD for leasing the Federal coal tracts that were considered for leasing in the Gray Mountain FEIS. The ROD covered by this NOA is for coal LBA KYES-51002 and addresses leasing an estimated 5.66 million tons of in-place Federal coal administered by the BLM-Eastern States, underlying approximately 1210.4 acres of Federal surface in the Daniel Boone National Forest, Leslie County, Kentucky.

Because the Assistant Secretary of the Interior, Lands and Minerals Management, has concurred in this decision it is not subject to appeal to the Interior Board of Land Appeals, as provided in 43 CFR part 4. This decision is the final action of the Department of the Interior.

Michael D. Nedd,
State Director, Eastern States.

[FR Doc. 05-12933 Filed 6-29-05; 8:45 am]

BILLING CODE 4310-PN-P